INTERNATIONAL TRADE COMMISSION

Agency Form Submitted for OMB Review

AGENCY: United States International Trade Commission.

ACTION: The United States International Trade Commission (USITC) has submitted a request for emergency processing to the Office of Management and Budget for review and clearance of questionnaires, in accordance with the provisions of the Paperwork Reduction Act of 1995 (44 U.S.C. chapter 35). The USITC has requested OMB approval of this submission by COB July 14, 2004.

Purpose of Information Collection: The forms are for use by the Commission in connection with investigation No. 332-460, Foundry Products: Competitive Conditions in the U.S. Market, instituted under the authority of section 332(g) of the Tariff Act of 1930 (19 U.S.C. 1332(g)). This investigation was requested by the House Committee on Ways and Means. The Commission expects to deliver the results of its investigation to the Committee by May 4, 2005.

Summary of Proposal:

(1) Number of forms submitted: One.

(2) Title of forms: Producer Questionnaire, Foundry Products.

(3) Type of request: New.

(4) Frequency of use: Single data gathering, scheduled for 2004.

(5) Description of respondents: U.S. firms which produce foundry products.

(6) Estimated number of respondents: 400.

(7) Estimated total number of hours to complete the forms: 16,000.

(8) Information obtained from the form that qualifies as confidential business information will be so treated by the Commission and not disclosed in a manner that would reveal the individual operations of a firm.

Additional Information or Comment: Copies of the forms and supporting documents may be obtained from Judith-Anne Webster (project leader) (USITC, telephone No. (202) 205-3489) or Deborah McNay (deputy project leader) (USITC, telephone No. (202) 205-3425). Comments about the proposal should be directed to the Office of Management and Budget, Office of Information and Regulatory Affairs, Room 10102 (Docket Library), Washington, DC 20503, Attention: Docket Librarian. All comments should be specific, indicating which part of the questionnaire is objectionable, describing the concern in detail, and including specific suggested revisions or language changes. Copies of any comments should be provided to Robert Rogowsky, Director, Office of Operations, U.S. International Trade Commission, 500 E Street, SW., Washington, DC 20436.

Hearing impaired individuals are advised that information on this matter can be obtained by contacting our TTD terminal (telephone No. 202-205-1810). General information concerning the Commission may also be obtained by accessing its Internet server (http://www.usitc.gov).

Issued: July 6, 2004.
By order of the Commission.
Marilyn R. Abbott,
Secretary to the Commission.

[FR Doc. 04-15674 Filed 7-9-04; 8:45 am]

BILLING CODE 7020-02-P